DEPARTMENT OF ENERGY

Federal Energy Regulatory Commission

[Docket No. RP00-341-004]

Egan Hub Partners, L.P.; Notice of Compliance Filing

January 22, 2003.

Take notice that on January 15, 2003, Egan Hub Partners, L.P. (Egan Hub) tendered for filing as part of its FERC Gas Tariff, Original Volume No. 1, certain revised tariff sheets identified in Appendix A to the filing proposed to be effective on December 24, 2002.

Egan Hub states that the purpose of this filing is to conform the pagination, supersession and/or content of the referenced tariff sheets to reflect the Commission's acceptance of tariff revisions in Docket Nos. RP00-341-002, RP02-264-000, RP02-264-001 and RP02-491-000. Egan Hub states that the tariff sheets filed herein contain only those changes approved by the orders issued in the referenced dockets.

Egan Hub states that copies of its filing have been mailed to all affected customers and interested state commissions and to all parties on the official service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 27, 2003.
Magalie R. Salas, ]
Secretary.

[FR Doc. 03-1939 Filed 1-27-03; 8:45 am]

BILLING CODE 6717-01-P